DEPARTMENT OF HEALTH AND HUMAN SERVICES

Food and Drug Administration

[Docket No. 2004N-0244]

Agency Information Collection Activities: Submission for Office of Management and Budget Review; Comment Request, Current Good Manufacturing Practice Regulations for Type A Medicated Articles

ACTION: Notice.

SUMMARY: The Food and Drug Administration (FDA) is announcing that the proposed collection of information listed below has been submitted to the Office of Management and Budget (OMB) for review and clearance under the Paperwork Reduction Act of 1995 (the PRA).

DATES: Fax written comments on the collection of information by December 10, 2004.

ADDRESSES: OMB is still experiencing significant delays in the regular mail, including first class and express mail, and messenger deliveries are not being accepted. To ensure that comments on the information collection are received, OMB recommends that written comments be faxed to the Office of Information and Regulatory Affairs, OMB, Attn: Fumie Yokota, Desk Officer for FDA, FAX 202-395-6974.

FOR FURTHER INFORMATION CONTACT: Denver Presley, Office of Management Programs (HFA-250), Food and Drug Administration, 5600 Fishers Lane, rm. 4B-41, Rockville, MD 20857, 301-827-1472.

SUPPLEMENTARY INFORMATION: In compliance with section 3507 of the Paperwork Reduction Act of 1995 (PRA) (44 U.S.C. 3507), FDA has submitted the following proposed collection of information to OMB for review and clearance.

Current Good Manufacturing Practice Regulations for Type A Medicated Articles—21 CFR 226 (OMB Control No. 0910-0154) Extension

Under section 501 of the Federal Food, Drug, and Cosmetic Act (21 U.S.C. 351) (the act), FDA has the statutory authority to issue current good manufacturing practice (cGMP) regulations for drugs, including type A medicated articles. A type A medicated article is a feed product containing a concentrated drug diluted with a feed carrier substance. A type A medicated article is intended solely for use in the manufacture of another type A medicated article or a type B or type C medicated feed. Medicated feeds are administered to animals for the prevention, cure, mitigation, or treatment of disease or for growth promotion and feed efficiency. Statutory requirements for cGMP`s for type A medicated articles have been codified in part 226 (21 CFR part 226). Type A medicated articles which are not manufactured in accordance with these regulations are considered adulterated under section 501(a)(2)(B) of the act. Under 21 CFR part 226, a manufacturer is required to establish, maintain, and retain records for Type A medicated articles, including records to document procedures required under the manufacturing process to assure that proper quality control is maintained. Such records would, for example, contain information concerning receipt and inventory of drug components, batch production, laboratory assay results (i.e. batch and stability testing) and product distribution. This information is needed so that FDA can monitor drug usage and possible misformulation of type A medicated articles. The information could also prove useful to FDA in investigating product defects when a drug is recalled. In addition, FDA will use the cGMP criteria in part 226 to determine whether or not the systems used by manufacturers of Type A medicated articles are adequate to assure that their medicated articles meet the requirements of the act as to safety and also meet the articles, claimed identity, strength, quality and purity, as required by section 501(a)(2)(B) of the act as to safety and also meet the articles claimed identity, strength, quality, and purity, as required by section 501(a)(2)(B) of the act.

In the Federal Register of June 4, 2004 (69 FR 31615), the FDA published a 60-day notice, soliciting comment on the collection of information requirements. In response to that notice, no comments were received. The respondents for type A medicated articles are pharmaceutical firms that manufacture both human and veterinary drugs, those firms that produce only veterinary drugs and commercial feed mills.

FDA estimates the burden of this collection of information as follows:

Table 1.—Estimated Annual Recordkeeping Burden¹
21 CFR Section | No. of Recordkeepers | Annual Frequency of Recordkeeping | Total Annual Records | Hours per Recordkeeper | Total Hours
226.42 | 115 | 260 | 29,000 | 0.75 | 22,425
226.58 | 115 | 260 | 29,000 | 1.75 | 52,325
226.80 | 115 | 260 | 29,000 | 0.75 | 22,425
226.102 | 115 | 260 | 24,000 | 1.75 | 52,325
226.110 | 115 | 260 | 29,000 | 0.25 | 7,475
226.115 | 115 | 10 | 1,150 | 0.5 | 575
Total | 157,550
¹ There are no capital costs or operating and maintenance costs associated with this collection.

The estimate of the time required for record preparation and maintenance is based on agency communications with industry. Other information needed to calculate the total burden hours (i.e., manufacturing sites, number of type A medicated articles being manufactured, etc.) are derived from agency records and experience.

Dated: November 3, 2004.
Jeffrey Shuren,
Assistant Commissioner for Policy.

[FR Doc. 04-24993 Filed 11-9-04; 8:45 am]

BILLING CODE 4160-01-S